DEPARTMENT OF COMMERCE

National Oceanic and Atmospheric Administration

[RTID 0648-XE383]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Sara Young (Permit No. 27597), Erin Markin, Ph.D., (Permit No. 28148), Amy Hapeman (Permit No. 21163-01), and Malcolm Mohead (Permit 20347-02); at (301) 427-8401.

SUPPLEMENTARY INFORMATION: Notices were published in the Federal Register on the dates listed below that requests for a permit, permit amendment, or permit modification had been submitted by the below-named applicants. To locate the Federal Register notice that announced our receipt of the application and a complete description of the activities, go to https://www.federalregister.gov and search on the permit number provided in table 1 below.

Table 1—Issued Permits, Permit Amendments, and Permit Modifications
Permit No. | RTID | Applicant | Previous Federal Register Notice | Issuance date
20347-02 | 0648-XE179 | University of Maine, 5741 Libby Hall, Room 202A, Orono, ME 04469 (Responsible Party: Gayle Zydlewski, Ph.D.) | 89 FR 64879, August 8, 2024 | October 1, 2024.
21163-01 | 0648-XR004 | Marine Ecology and Telemetry Research, 2468 Camp McKenzie Trail NW, Seabeck WA 98380 (Responsible Party: Greg Schorr) | 84 FR 54121, October 9, 2019 | September 23, 2024.
27597 | 0648-XD928 | NMFS Alaska Fisheries Science Center's Marine Mammal Laboratory, 7600 Sand Point Way NE, Seattle, WA 98115 (Responsible Party: John Bengtson, Ph.D.) | 89 FR 36761, May 3, 2024 | September 9, 2024.
28148 | 0648-XE164 | NMFS Pacific Islands Regional Office, 1845 Wasp Boulevard, Building 176, Honolulu, HI 96818 (Responsible Party: Jamie Marchetti) | 89 FR 63412, August 5, 2024 | September 25, 2024.

In compliance with the National Environmental Policy Act of 1969 (42 U.S.C. 4321 et seq.), for Permit Nos. 20347-02, 21163-01, and 28148, and a final determination has been made that the activities proposed are categorically excluded from the requirement to prepare an environmental assessment (EA) or environmental impact statement (EIS).

For Permit No. 27597, a determination was made that the activities authorized are consistent with the Preferred Alternative in the Final Programmatic EIS for Steller Sea Lion and Northern Fur Seal Research (NMFS 2007). A supplemental EA (NMFS 2014) was prepared for the addition of unmanned aerial surveys to the suite of research activities analyzed under the EIS and concluded that issuance of the permits would not have a significant adverse impact on the human environment. An environmental review memo was prepared to summarize these findings.

As required by the ESA, as applicable, issuance of these permit was based on a finding that such permits: (1) were applied for in good faith; (2) will not operate to the disadvantage of such endangered species; and (3) are consistent with the purposes and policies set forth in section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: October 15, 2024.
Julia M. Harrison,
Chief, Permits and Conservation Division, Office of Protected Resources, National Marine Fisheries Service.

[FR Doc. 2024-24976 Filed 10-25-24; 8:45 am]

BILLING CODE 3510-22-P